DEPARTMENT OF ENERGY

Federal Energy Regulatory Commission

[Docket No. EL11-38-000]

Cobb Customer Requesters v. Cobb Electric Membership Corporation, Cobb Energy Management Corporation, Cooperative Energy Inc., Power4Georgians LLC, Dwight T. Brown, W.T. Nelson III; Notice of Complaint

Take notice that on April 26, 2011, Cobb Customer Requesters (CCR or Complainant) filed a complaint against Cobb Electric Membership Corporation (Cobb EMC), Cobb Energy Management Corporation (Cobb Energy), Cooperative Energy Inc. (CEI), Power4Georgians LLC (P4G), Mr. Dwight T. Brown and Mr. W.T. Nelson III (Respondents). CCR requests the Commission institute an investigation into alleged acts involving the failure to comply with the Federal Power Act and the Commission's regulations. In support of its complaint and request for investigation, CCR points to what it identifies as a series of misstatements, omissions and inaccurate filings with the Commission in relation to Cobb EMC's, and its affiliate, CEI's, request for and the Commission's authorization of market-based rate authorization, and the request for and the Commission's authorization of the holding of interlocking positions by an official of both Cobb EMC and CEI. CCR also points to what it describes as violations of the Commission's rules prohibiting affiliate cross-subsidization and other affiliate abuses associated with dealings among the respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 16, 2011.

Dated: May 5, 2011.
Kimberly D. Bose,
Secretary.

[FR Doc. 2011-11536 Filed 5-10-11; 8:45 am]

BILLING CODE 6717-01-P